DEPARTMENT OF LABOR

Employment and Training Administration

Proposed Collection; Comment Request; Correction

ACTION: Correction.

SUMMARY: In the notice document 03-19218 beginning on page 44547 in the issue of Tuesday, July 29, 2003, make the following correction:

On page 44547 in the first column in the 2nd paragraph, the comment due date is omitted. The comment due date should be September 29, 2003.

Dated: July 29, 2003.
Maria K. Flynn,
Acting Administrator, Office of Policy Development, Evaluation and Research, Employment and Training Administration.

[FR Doc. 03-19849 Filed 8-4-03; 8:45 am]

BILLING CODE 4510-30-M